FARM CREDIT ADMINISTRATION

12 CFR Part 614

RIN 3052-AC60

Loan Policies and Operations; Lending and Leasing Limits and Risk Management; Effective Date

AGENCY: Farm Credit Administration.

ACTION: Notice of effective date.

SUMMARY: The Farm Credit Administration (FCA or Agency), through the FCA Board (Board), issued a final rule under part 614 on May 24, 2011 (76 FR 29992) amending our regulations relating to lending and leasing limits and loan and lease concentration risk mitigation with a delayed effective date. In accordance with 12 U.S.C. 2252, the effective date of the final rule is 30 days from the date of publication in the Federal Register during which either or both Houses of Congress are in session. Based on the records of the sessions of Congress, the effective date of the regulations is July 1, 2012.

DATES: Effective Date: Under the authority of 12 U.S.C. 2252, the regulation amending 12 CFR part 614 published on May 24, 2011 (76 FR 29992) is effective July 1, 2012.

FOR FURTHER INFORMATION CONTACT:

Paul K. Gibbs, Senior Accountant, Office of Regulatory Policy, Farm Credit Administration, McLean, Virginia 22102-5090, (703) 883-4498, TTY (703) 883-4434, or

Wendy R. Laguarda, Assistant General Counsel, Office of General Counsel, Farm Credit Administration, McLean, Virginia 22102-5090, (703) 883-4020, TTY (703) 883-4020.

Authority: 12 U.S.C. 2252(a)(9) and (10)

Dated: June 28, 2012.
Dale L. Aultman,
Secretary, Farm Credit Administration Board.

[FR Doc. 2012-16318 Filed 7-2-12; 8:45 am]

BILLING CODE 6705-01-P